DEPARTMENT OF THE INTERIOR

Bureau of Land Management

[19XL.LLIDB03000.DF0000.LFHFFR650000.241A.4500136018]

Notice of Availability for the Tri-State Fuel Breaks Project Draft Environmental Impact Statement, Idaho and Oregon

AGENCY: Bureau of Land Management, Interior.

ACTION: Notice of availability.

SUMMARY: In accordance with the National Environmental Policy Act of 1969, as amended, and the Federal Land Policy and Management Act of 1976, as amended, the Bureau of Land Management (BLM) Boise District Office, Boise, Idaho, and the BLM Vale District Office, Vale, Oregon, have prepared a Draft Environmental Impact Statement (EIS) titled Tri-state Fuel Breaks Project Draft Environmental Impact Statement (DOI-BLM-ID-B000-2015-0001-EIS) (Draft EIS) and, by this notice, are announcing the opening of the comment period.

DATES: To ensure that comments will be considered, the BLM must receive written comments on the Draft EIS within 45 days following the date the Environmental Protection Agency publishes its Notice of Availability in the Federal Register. The BLM will announce future meetings or hearings and any other public-participation activities at least 15 days in advance through public notices, media releases, and/or mailings.

ADDRESSES: You may submit comments related to the Draft EIS by any of the following methods:

• Email: blm_id_tristate@blm.gov.

• Fax: 208-384-3489.

• Mail: 3948 South Development Ave., Boise, ID 83705.

The Draft EIS and accompanying background documents are available on the project website: https://go.usa.gov/xPruu.

FOR FURTHER INFORMATION CONTACT: Lance Okeson, Project Lead, telephone: 208-384-3300; 3948 South Development Ave., Boise, ID 83705; email: blm_id_tristate@blm.gov. Contact Mr. Okeson to have your name added to our mailing list. Persons who use a telecommunications device for the deaf (TDD) may call the Federal Relay Service (FRS) at 1-800-877-8339 to contact Mr. Okeson during normal business hours. FRS is available 24 hours a day, 7 days a week, to leave a message or a question. You will receive a reply during normal business hours.

SUPPLEMENTARY INFORMATION: Southwest Idaho, southeast Oregon, and northern Nevada (the Tri-state area) comprise one of the largest intact strongholds of Greater Sage-grouse habitat in the Northern Great Basin. This area supports habitat for big game and other sagebrush-obligate species and provides for a variety of multiple-use activities. Multiple science-based assessments dating back to 2010 have identified the project area as a landscape particularly threatened by wildfire and the consequent spread of invasive annual grasses. The 2010 Rapid Eco-regional Assessment of the Northern Basin and Range and Snake River Plain identified the Tri-state area as being at high risk for large-scale wildfires. Wildfires in this remote area can grow quickly and affect hundreds of thousands of acres of sage-steppe habitat and working landscapes within a matter of days. The 2012 Long Draw Fire (558,198 acres), the 2014 Buzzard Complex Fire (395,747 acres), the 2015 Soda Fire (285,360 acres), the 2018 Martin Fire (435,569 acres), and the 2018 Sugar Loaf Fire (233,462 acres)—all of which were in or near the project area—each impacted over a hundred thousand acres within 24 hours.

The shrub-steppe landscapes within this area represent one of the most imperiled ecosystems in the United States. The Secretary of the Interior's 2017 Wildland Fire Directive requires incorporation of fuels management into resource management planning. Secretarial Order 3372 calls for active management of public lands to reduce the risk of catastrophic wildfire to America's forests and rangelands. Management of wildfire has been identified as one of the key issues for maintaining sage-grouse populations in sagebrush-dominated landscapes.

Purpose and Need

The purpose of the proposed BLM action is to provide safe areas and strategic opportunities in the Tri-state area to more rapidly and effectively protect sagebrush-steppe habitat and other natural and cultural resources and socioeconomic values from wildfires by creating and maintaining fuel breaks along a network of established roads through mechanical, biological, chemical, and prescribed fire treatments. Fuel breaks reduce fuel accumulations and disrupt fuel continuity to modify fire behavior and provide for firefighter safety and efficiency, in order to reduce the spread of wildfire across the sagebrush-steppe ecosystems within the project area.

Alternatives

Under the No Action Alternative (Alternative 1), a fuel-break network would not be created. Fuels adjacent to roadways would not be treated to reduce fuel accumulations and disrupt fuel continuity. Fire suppression personnel would continue to use existing paved and other improved BLM and county roads and natural topographic features to hold and control wildfire.

Under all action alternatives, fuel breaks would only be implemented alongside existing roads. Fuel breaks would extend up to, but no farther than, 200 feet from both sides of roadways. Environmental constraints such as adjacent vegetation, terrain, soil type, and resource concerns would dictate width (≤200 feet) and treatment type in a given area. The methods for fuel break creation and maintenance analyzed in the Draft EIS include mowing, hand cutting, seeding (including seedbed preparation techniques), herbicide treatment, prescribed fire (e.g., pile burning), and targeted grazing. These methods may be implemented in combination or as stand-alone treatments as necessary to meet the treatment objectives. Depending on available funding, implementation could occur over 15 years.

Alternative 2 contains the highest number and density of fuel breaks of all action alternatives. The BLM would implement and maintain a fuel break network along approximately 1,539 miles of existing roads: 731 miles in Idaho and 808 miles in Oregon. No fuel breaks would be constructed in designated wilderness. Fuel breaks may be established along the non-wilderness side of boundary roads adjacent to designated wilderness. Fuel breaks may be established along boundary roads surrounding lands with wilderness characteristics and wilderness study areas (WSAs).

Alternative 3 was developed to protect natural resources and socioeconomic values from large wildfires while minimizing impacts to social and cultural resources. Alternative 3 emphasizes avoidance of cultural resources and limiting impacts to special management areas (e.g., wilderness and WSAs) and lands with wilderness characteristics. The fuel-break network would span 1,063 miles of existing roads: 505 miles in Idaho and 558 miles in Oregon. No fuel breaks would be constructed in designated wilderness. Fuel breaks may be established along the non-wilderness side of boundary roads adjacent to designated wilderness. Fuel breaks may only be established along boundary roads of lands with wilderness characteristics and WSAs.

Alternative 4 emphasizes protection to wildlife and their habitat while providing a network of fuel breaks that meets the purpose and need. The fuel-break network for this alternative would span 910 miles of existing roads: 450 miles in Idaho and 460 miles in Oregon. Fuel-break construction in relation to wilderness, lands with wilderness characteristics, and WSAs would be identical to Alternative 2.

A preferred alternative has not been identified for the Draft EIS, but will be identified for the Final EIS, as per 40 CFR 1502.14(e). The Final EIS will reflect changes or adjustments based on public comments received on the Draft EIS, and any new information that is identified. The preferred alternative in the Final EIS may include portions of any analyzed alternatives. For this reason, the BLM encourages comments on all alternatives and management actions described in the Draft EIS.

You may submit written comments on the Draft EIS to the BLM at any public meeting or through any of the methods identified in the ADDRESSES section. All comments must be received by the end of the comment period. Comments submitted must include the commenter's name and street address. Whenever possible, please include reference to either the page or section in the document to which the comment applies.

Before including your address, phone number, email address, or other personal identifying information in your comment, you should be aware that your entire comment—including your personal identifying information—may be made publicly available at any time. While you can ask us in your comment to withhold your personal identifying information from public review, we cannot guarantee that we will be able to do so. All submissions from organizations or businesses, and from individuals identifying themselves as representatives or officials of organizations or businesses, are available for public inspection in their entirety.

(Authority: 40 CFR 1506.6 and 40 CFR 1506.10)

Lara Douglas,
Boise District Manager, Idaho,
Donald N. Gonzalez,
Vale District Manager, Oregon/Washington.

[FR Doc. 2019-22112 Filed 10-10-19; 8:45 am]

BILLING CODE 4310-GG-P